DEPARTMENT OF ENERGY

Federal Energy Regulatory Commission

[Docket No. CP00-14-000, CP00-15-000, and CP00-16-000]

Buccaneer Gas Pipeline Company, L.L.C., Notice of Site Visit

November 16, 2000.

On December 1, 2000, the Office of Energy Projects staff will conduct a site visit at various locations of the proposed facilities of the Buccaneer Gas Pipeline Project in Pasco County, Florida with representatives of Buccaneer Gas Pipeline Company and others. The site visit will start at 9:30 am at the Pasco County Park on Bailey's Bluff Road about one-half mile north of the Anclote Plant Site. Sites to be visited include Gulftrace Subdivision at Milepost (MP) 3.5, State Route 54 near MP 17, a wetland and route near MP 29, route crossing near MP 43, and possibly other locations.

All interested parties may attend. Those planning to attend must provide their own transportation.

For further information, or if attending, please contact Laura Turner in the Office of Energy Projects at (202) 208-0916.

Linwood A. Watson, Jr.,
Acting Secretary.

[FR Doc. 00-29867 Filed 11-21-00; 8:45 am]

BILLING CODE 6717-01-M